DEPARTMENT OF HEALTH AND HUMAN SERVICES

Health Resources and Services Administration

Solicitation of Nominations for Membership To Serve on the Advisory Committee on Infant Mortality

AGENCY: Health Resources and Services Administration (HRSA), Department of Health and Human Services (HHS).

ACTION: Request for nominations.

SUMMARY: HRSA is seeking nominations of qualified candidates for consideration for appointment as members of the Advisory Committee on Infant Mortality (ACIM). The ACIM provides advice to the Secretary of HHS on Department activities and programs directed at reducing infant mortality and improving the health status of pregnant women and infants. With a focus on life course, ACIM addresses disparities in maternal health to improve maternal health outcomes, including preventing and reducing maternal mortality and severe maternal morbidity. HRSA is seeking nominations of qualified candidates to fill positions on the ACIM.

DATES: Written nominations for membership on the ACIM must be received on or before February 24, 2020.

ADDRESSES: Nomination packages must be submitted electronically as email attachments to David de la Cruz, the ACIM's Designated Federal Official, at: dcruz@hrsa.gov.

FOR FURTHER INFORMATION CONTACT: David de la Cruz, Ph.D., MPH. Address: Maternal and Child Health Bureau, HRSA 5600 Fishers Lane, Room 18N25, Rockville, MD 20857; phone number: 301-443-0543; email: dcruz@hrsa.gov. A copy of the ACIM charter and list of the current membership can be obtained by accessing the ACIM website at https://www.hrsa.gov/advisory-committees/Infant-Mortality/index.html.

SUPPLEMENTARY INFORMATION: The ACIM was established in 1991 and advises the Secretary of HHS on Department activities and programs directed at reducing infant mortality and improving the health status of pregnant women and infants. The ACIM represents a public-private partnership at the highest level to provide guidance and focus attention on the policies and resources required to address the reduction of infant mortality and the improvement of the health status of pregnant women and infants. Women who experience conditions such as hypertension, malnutrition, substance use disorder, and/or diabetes during pregnancy are at an elevated risk of delivering a baby who is low birth weight or premature. These are two of the leading causes of infant mortality. The ACIM provides advice on how best to coordinate a myriad of federal, state, local, and private programs and efforts that are designed to deal with the health and social problems affecting infant mortality and maternal health including implementation of the Healthy Start program and the maternal and infant health objectives from the National Health Promotion and Disease Prevention Objectives.

Nominations: HRSA is requesting nominations for voting members to serve as Special Government Employees (SGEs) on the ACIM. The Secretary appoints up to 21 members for a term of up to 4 years. Nominees should include medical, technical, or scientific professionals with special expertise in the field of maternal and child health, in particular infant mortality and related health disparities; members of the public having special expertise about or concern with infant mortality; and/or representatives from such public health constituencies, consumers, and medical professional societies. Interested applicants may self-nominate or be nominated by another individual or organization.

Members appointed as SGEs receive a stipend and reimbursement for per diem and travel expenses incurred for attending the ACIM meetings and/or conducting other business on behalf of the ACIM, as authorized by 5 U.S.C. 5703 for persons employed intermittently in government service. The ACIM meets approximately twice per year.

The following information must be included in the package of materials submitted for each individual being nominated for consideration: (1) A statement that includes the name and affiliation of the nominee and a clear statement regarding the basis for the nomination, including the area(s) of expertise that may qualify a nominee for service on the ACIM, as described above; (2) confirmation the nominee is willing to serve as a member of the ACIM; (3) the nominee's contact information (please include home address, work address, daytime telephone number, and an email address); and (4) a current copy of the nominee's curriculum vitae. Nomination packages may be submitted directly by the individual being nominated or by the person/organization recommending the candidate.

HHS endeavors to ensure that the membership of the ACIM is fairly balanced in terms of points of view represented and that individuals from a broad representation of geographic areas, gender, and ethnic and minority groups, as well as individuals with disabilities, are considered for membership. Appointments shall be made without discrimination on the basis of age, ethnicity, gender, sexual orientation, or cultural, religious, or socioeconomic status.

Individuals who are selected to be considered for appointment will be required to provide detailed information regarding their financial holdings, consultancies, and research grants or contracts. Disclosure of this information is necessary in order for HRSA ethics officials to determine whether there is a potential conflict of interest between the SGE's public duties as a member of the ACIM and their private interests, including an appearance of a loss of impartiality as defined by federal laws and regulations, and to identify any required remedial action needed to address the potential conflict.

Authority: The ACIM was established under provisions of section 222 of the Public Health Service Act (42 U.S.C. 217a), as amended. The ACIM is governed by provisions of the Federal Advisory Committee Act (FACA), as amended (5 U.S.C. App.), as well as 41 CFR part 102-3, which set forth standards for the formation and use of Advisory Committees.

Maria G. Button,
Director, Executive Secretariat.

[FR Doc. 2020-01129 Filed 1-23-20; 8:45 am]

BILLING CODE 4165-15-P